DEPARTMENT OF ENERGY

Federal Energy Regulatory Commission

[Project No. 14861-002]

FFP Project 101, LLC; Notice of Reasonable Period of Time for Water Quality Certification Application

On May 24, 2022, Rye Development on behalf of FFP Project 101, LLC submitted to the Federal Energy Regulatory Commission (Commission) evidence of its application for a Clean Water Act section 401(a)(1) water quality certification filed with Washington State Department of Ecology (Washington Ecology), in conjunction with the above captioned project. Pursuant to section 401 of the Clean Water Act ¹ and section 4.34(b)(5) of the Commission's regulations,² a state certifying agency is deemed to have waived its certifying authority if it fails or refuses to act on a certification request within a reasonable period of time, which is one year after the date the certification request was received. Accordingly, we hereby notify Washington Ecology of the following:

¹ 33 U.S.C. 1341(a)(1).

² 18 CFR 4.34(b)(5).

Date that Washington Ecology Received the Certification Request: May 23, 2022.

If Washington Ecology fails or refuses to act on the water quality certification request on or before May 23, 2023, then the agency certifying authority is deemed waived pursuant to section 401(a)(1) of the Clean Water Act, 33 U.S.C. 1341(a)(1).

Dated: May 31, 2022.
Kimberly D. Bose,
Secretary.

[FR Doc. 2022-12052 Filed 6-3-22; 8:45 am]

BILLING CODE 6717-01-P